DEPARTMENT OF EDUCATION

[Docket No.: ED-2019-ICCD-0032]

Agency Information Collection Activities; Comment Request; National Assessment of Educational Progress (NAEP) 2019 and 2020 Long-Term Trend (LTT) Update Emergency Clearance

AGENCY: National Center for Education Statistics (NCES), Department of Education (ED).

ACTION: Notice.

SUMMARY: In accordance with the Paperwork Reduction Act of 1995, ED is requesting the Office of Management and Budget (OMB) to conduct an emergency review of a revised information collection.

DATES: NCES requests comments to be submitted by April 16, 2019 for this emergency information collection. A regular clearance process is also hereby being initiated. Interested persons are invited to submit comments on or before May 20, 2019.

ADDRESSES: To access and review all the documents related to the information collection listed in this notice, please use http://www.regulations.gov by searching the Docket ID number ED-2019-ICCD-0032. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Kashka Kubzdela, 202-245-7377 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Assessment of Educational Progress (NAEP) 2019 and 2020 Long-Term Trend (LTT) Update Emergency Clearance.

OMB Control Number: 1850-0928.

Type of Review: A revision of an existing information collection.

Respondents/Affected Public: Individuals or Households.

Total Estimated Number of Annual Responses: 642,087.

Total Estimated Number of Annual Burden Hours: 322,765.

Abstract: The National Assessment of Educational Progress (NAEP), conducted by the National Center for Education Statistics (NCES), is a federally authorized survey of student achievement at grades 4, 8, and 12 in various subject areas, such as mathematics, reading, writing, science, U.S. history, civics, geography, economics, technology and engineering literacy (TEL), and the arts. The National Assessment of Educational Progress Authorization Act (Pub. L. 107-279 Title III, section 303) requires the assessment to collect data on specified student groups and characteristics, including information organized by race/ethnicity, gender, socio-economic status, disability, and limited English proficiency. It requires fair and accurate presentation of achievement data and permits the collection of background, noncognitive, or descriptive information that is related to academic achievement and aids in fair reporting of results. The intent of the law is to provide representative sample data on student achievement for the nation, the states, and subpopulations of students and to monitor progress over time. The nature of NAEP is that burden alternates from a relatively low burden in national-level administration years to a substantial burden increase in state-level administration years when the sample has to allow for estimates for individual states and some of the large urban districts. The request to conduct NAEP 2019 and 2020 was approved in September 2018 with the latest change request approved in February 2019 (OMB# 1850-0928 v.10-13). NAEP 2019 is currently underway. This request is to update the approved NAEP 2020 plan with: (1) The cancellation of all of the NAEP pilot and special studies originally planned for the 2019-20 school year (NAEP 2020), and (2) based on a Congressional request, the administration of Long Term Trend (LTT) assessment during the 2019-20 school year. The LTT assessments are based on nationally representative samples of 9-, 13-, and 17-year olds, and have been used by NAEP since the early 1970s to provide measures of students' educational progress over long time periods to allow for analyses of national trends in students' performance in mathematics and reading.

Additional Information: In order to be able to comply with the Congressional request to conduct LTT during the 2019-20 school year and to meet the study's timeline while maintaining compliance with the Paperwork Reduction Act (PRA), due to this unanticipated event, the U.S. Department of Education (ED) and NCES are requesting under 44 U.S.C. 3507(j)(1) (“emergency clearance”) to begin participant recruitment and study materials printing for LTT 2020 by May 2019. Therefore, NCES is submitting this Information Collection Request (ICR) to OMB utilizing emergency review procedures in accordance with the PRA (Pub. L. 104-13, 44 U.S.C. Chapter 35) and 5 CFR 1320.13 to announce revisions to the NAEP 2020 study plans and to provide for review the LTT 2020 plans, procedures, and materials. NCES is simultaneously initiating a regular clearance process for this request, including a 60-day followed by a 30-day public comment periods.

NCES requests that any comments on the plans, procedures, and materials proposed in this ICR will be submitted via Regulations.gov by April 16, 2019, as part of the public comment period affiliated with this emergency clearance. This will allow NCES to timely consider and address all comments related to this submission, so that upon approval of the ICR by OMB in April 2019, NCES can begin all participant recruitment activities and printing of study materials necessary to conduct LTT 2020.

Dated: March 18, 2019.
Stephanie Valentine,
PRA Clearance Coordinator,Information Collection Clearance Program,Information Management Branch,Office of the Chief Information Officer.

[FR Doc. 2019-05403 Filed 3-20-19; 8:45 am]

BILLING CODE 4000-01-P